DEPARTMENT OF TRANSPORTATION

Federal Aviation Administration

[Summary Notice No. PE-2001-01]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 5, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, DC, on January 10, 2001.
Donald P. Byrne,
Assistant Chief Counsel for Regulations.

Dispositions of Petitions

Docket No.: FAA-2000-8157.

Petitioner: Petroleum Helicopters, Inc.

Section of 14 CFR Affected: 14 CFR § 135.152(a).

Description of Relief Sought/Disposition: To permit PHI to operate three Bell 212 helicopters (Registration Nos. N1074C, N5009N, and N5736D; Serial Nos. 30989, 30915, and 31135, respectively), two Bell 214ST helicopters (Registration Nos. N59805 and N59806, Serial Nos. 28141 and 28140, respectively), three Bell 412 helicopters (Registration Nos. N2014K, N2258F, and N3893L; Serial Nos. 33020, 33073, and 33006, respectively), and one Bell 421SP helicopter (Registration No. N142PH, Serial No. 33150) under part 135 without an approved digital flight data recorder installed on each helicopter.

Grant, 12/15/2000, Exemption No. 6713E

Docket No.: FAA-2000-8430.

Petitioner: Rocky Mountain Holdings, L.L.C.

Section of 14 CFR Affected: 14 CFR § 135.143(c)(2).

Description of Relief Sought/Disposition: To permit RMH to operate certain aircraft under part 135 without a TSO-C112 (Mode S) transponder installed in the aircraft.

Grant, 12/13/2000, Exemption No. 5774E

Docket No.: FAA-2000-8533.

Petitioner: Israel Aircraft Industries.

Section of 14 CFR Affected: 14 CFR § 61.77(a).

Description of Relief Sought/Disposition: To permit IAI to obtain special purpose pilot authorizations for its pilot employees for the purpose of performing: (1) Ferry/delivery flights of U.S.-registered ASTRA Galaxy airplanes from Israel to the United States for its U.S. customers; (2) Ferry/delivery flights of U.S.-registered ASTRA Galaxy airplanes from Israel to other countries for its U.S. customers; and (3) For performing test and acceptance flights of U.S.-registered ASTRA Galaxy airplanes for its U.S. customers.

Grant, 01/13/1999, Exemption No. 7406

Docket No.: FAA-2000-8497.

Petitioner: America West Airlines.

Section of 14 CFR Affected: 14 CFR § 91.205(b)(12).

Description of Relief Sought/Disposition: To permit AWX to operate it's aircraft over water without at least one pyrotechnic signaling device on board.

Denial, 12/18/2000, Exemption No. 7409

Docket No.: FAA-2000-8096.

Petitioner: Vinay M. Gidwani.

Section of 14 CFR Affected: 14 CFR § 61.83(a).

Description of Relief Sought/Disposition: To permit Mr. Gidwani to obtain a student pilot certificate for operation of an aircraft other than a glider or balloon.

Denial, 12/18/2000, Exemption No. 7408

Docket No.: FAA-2000-8491.

Petitioner: Lifeport, Inc.

Section of 14 CFR Affected: 14 CFR §§ 25.562 and 25.785(b).

Description of Relief Sought/Disposition: To permit certification of medical stretchers for transport of persons whose medical condition dictates such accommodation. The exemption is for an installation on a Learjet Model 45 airplane.

Grant, 12/07/2000, Exemption No. 7393

[FR Doc. 01-1288 Filed 1-16-01; 8:45 am]

BILLING CODE 4910-13-M